SECURITIES AND EXCHANGE COMMISSION

[Release No. 34-48424; File No. SR-NASD-2003-92]

Self-Regulatory Organizations; National Association of Securities Dealers, Inc.; Order Granting Approval to a Proposed Rule Change To Adopt NASD Rule 2370 To Govern Certain Lending Arrangements Between Registered Persons and Customers

August 29, 2003.

Correction

In notice document 03-22656 beginning on page 52806 in the issue of Friday, September 5, 2003, make the following correction:

On page 52806, in the third column, the docket number is corrected to read as set forth above.

[FR Doc. C3-22656 Filed 9-10-03; 8:45 am]

BILLING CODE 1505-01-D